DEPARTMENT OF THE INTERIOR

National Park Service

[NPS-WASO-NAGPRA-NPS0037009; PPWOCRADN0-PCU00RP14.R50000]

Notice of Inventory Completion Amendment: Arizona State Museum, University of Arizona, Tucson, AZ

AGENCY: National Park Service, Interior.

ACTION: Notice; amendment.

SUMMARY: In accordance with the Native American Graves Protection and Repatriation Act (NAGPRA), the Arizona State Museum, University of Arizona, has amended a Notice of Inventory Completion published in the Federal Register on October 17, 2018. This notice amends the minimum number of individuals and number of associated funerary objects in a collection removed from Graham and Pima Counties, AZ.

DATES: Repatriation of the human remains and associated funerary objects in this notice may occur on or after January 4, 2024.

ADDRESSES: Cristin Lucas, Repatriation Coordinator, P.O. Box 210026, Arizona State Museum, University of Arizona, Tucson, AZ 85721, telephone (520) 626-0320, email lucasc@arizona.edu.

SUPPLEMENTARY INFORMATION: This notice is published as part of the National Park Service's administrative responsibilities under NAGPRA. The determinations in this notice are the sole responsibility of the Arizona State Museum, University of Arizona. The National Park Service is not responsible for the determinations in this notice. Additional information on the amendments and determinations in this notice, including the results of consultation, can be found in the inventory or related records held by the Arizona State Museum, University of Arizona.

Amendment

This notice amends the determinations published in a Notice of Inventory Completion in the Federal Register (83 FR 52508-52519, October 17, 2018). Repatriation of the items in the original Notice of Inventory Completion has not occurred. This notice amends the counts of the minimum number of individuals and the number of associated funerary objects listed in the original notice. Human remains representing, at minimum, two individuals are added to the inventory for Graham County, AZ. Also, 24 associated funerary objects are added to the inventory for three sites in Graham and Pima Counties, AZ.

From AZ AA:8:20(ASM) in Pima County, AZ, the 919 associated funerary objects (previously identified as 913 associated funerary objects) are five bone artifact fragments, 752 ceramic sherds, one lot consisting of charcoal, 124 flaked stone fragments, 12 flotation samples, one ground stone, eight pollen samples, one radiocarbon sample, 11 schist pieces, two shells, and two pendants.

From AZ AA:8:21(ASM) in Pima County, AZ, the 422 associated funerary objects (previously identified as 419 associated funerary objects) are five bone fragments, one ceramic jar, 333 ceramic sherds, one perforated sherd, 77 flaked stone fragments, three pollen samples, one stone, and one ground stone.

From AZ CC:3:46(ASM) in Graham County, AZ, the human remains of, at minimum, 11 individuals were removed (previously identified as the remains of nine individuals). The 24 associated funerary objects (previously identified as nine associated funerary objects) are one bone awl, one ceramic sherd, four flaked stone fragments, two pollen samples, two shell pendants, one stone biface, six projectile points, three lots consisting of faunal bones, one flotation sample, one ground stone, and two soil samples.

Determinations (as Amended)

Pursuant to NAGPRA and its implementing regulations, and after consultation with the appropriate Indian Tribes and Native Hawaiian organizations, the Arizona State Museum, University of Arizona, has determined that:

• The human remains described in this amended notice represent the physical remains of 664 individuals of Native American ancestry.

• The 10,442 objects described in this amended notice are reasonably believed to have been placed with or near individual human remains at the time of death or later as part of the death rite or ceremony.

• There is a relationship of shared group identity that can be reasonably traced between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 4, 2024. If competing requests for repatriation are received, the Arizona State Museum, University of Arizona, must determine the most appropriate requestor prior to repatriation. Requests for joint repatriation of the human remains and associated funerary objects are considered a single request and not competing requests. The Arizona State Museum, University of Arizona, is responsible for sending a copy of this notice to the Indian Tribes identified in this notice.

Authority: Native American Graves Protection and Repatriation Act, 25 U.S.C. 3003, and the implementing regulations, 43 CFR 10.9, 10.10, 10.13, and 10.14.

Dated: November 28, 2023.
Melanie O'Brien,
Manager, National NAGPRA Program.

[FR Doc. 2023-26614 Filed 12-4-23; 8:45 am]

BILLING CODE 4312-52-P